DEPARTMENT OF HOUSING AND URBAN DEVELOPMENT

[Docket No. FR-5436-N-01]

Mortgagee Review Board: Administrative Actions

AGENCY: Office of the Assistant Secretary for Housing—Federal Housing Commissioner, Department of Housing and Urban Development (HUD).

ACTION: Notice.

SUMMARY: In compliance with Section 202(c) of the National Housing Act, this notice advises of the cause and description of administrative actions taken by HUD's Mortgagee Review Board against HUD-approved mortgagees.

FOR FURTHER INFORMATION CONTACT: Nancy A. Murray, Secretary to the Mortgagee Review Board, 451 Seventh Street, SW., Room B-133/3150, Washington, DC, 20410-8000; telephone: (202) 708-2224. A Telecommunications Device for Hearing-and Speech-Impaired Individuals (TTY) is available at (800) 877-8339 (Federal Information Relay Service).

SUPPLEMENTARY INFORMATION: Section 202(c)(5) of the National Housing Act (added by Section 142 of the Department of Housing and Urban Development Reform Act of 1989, Public Law 101-235, approved December 15, 1989), requires that HUD “publish a description of and the cause for administrative action against a HUD-approved mortgagee” by the Department's Mortgagee Review Board (Board). In compliance with the requirements of Section 202(c)(5), this notice advises of actions that have been taken by the Board from July 10, 2008 to March 18, 2010.

I. Settlement Agreements, Civil Money Penalties, Withdrawal of FHA Approval, Suspensions, Probations, and Reprimand

1. Academy Mortgage Corporation, Sandy, UT [Docket No. 10-1030-MR]

Action: On March 12, 2010, the Board entered into a settlement agreement with Academy Mortgage Corporation (Academy) requiring Academy to pay a $30,000 civil money penalty without admitting fault or liability.

Cause: The Board took this action based on the following violations of HUD/FHA requirements alleged by HUD: Academy used the official HUD Seal and FHA acronym on its Web site; violated HUD's advertising requirements when it misrepresented that its Web site was owned and/endorsed by HUD; Academy continued to violate HUD requirements by displaying the Official Federal Housing Administration—Approved Lending Institution Seal (“FHA Seal”) improperly on its Web site and failed to accurately identify Academy as the owner of the Web site; and failed to register the fictitious business name “fhamodification.com” in violation of HUD requirements.

2. Action Mortgage Corporation, Cranston, RI [Docket No. 10-1015-MR]

Action: On January 25, 2010, the Board issued a Notice of Administrative Action placing Action Mortgage Corporation (AMC) on six months probation and imposing a $7,000 civil money penalty.

Cause: The Board took this action based on the following violations of HUD/FHA requirements alleged by HUD: AMC used the official HUD Seal on its Web site and improperly implied that AMC was affiliated, connected, or had authorization from HUD for its Web site.

3. Americare Investment Group, Inc. d/b/a Premier Capital Lending, Arlington, TX [Docket No. 10-1629-MR]

Action: On January 25, 2010, the Board issued a Notice of Administrative Action to Americare Investment Group, Inc. (Americare) permanently withdrawing their FHA approval.

Cause: The Board took this action based on the following violations of HUD/FHA requirements alleged by HUD: Americare failed to comply with the terms of an October 8, 2009 settlement agreement with the Department.

4. Assurity Financial Services, Englewood, CO [Docket No 09-9552-MR]

Action: On April 20, 2010, the Board entered into a settlement agreement with Assurity Financial Services (Assurity) requiring Assurity to pay a $7,500 civil money penalty without admitting fault or liability.

Cause: The Board took this action based on the following violations of HUD/FHA requirements alleged by HUD: Assurity failed to implement a QC plan and conduct QC reviews in accordance with HUD/FHA requirements.

5. Automated Finance Corporation, Calabasas, CA [Docket No. 09-9825-MR]

Action: On October 30, 2009, the Board issued a Notice of Administrative Action to Automated Finance Corporation (Automated) permanently withdrawing their FHA approval.

Cause: The Board took this action based on the following violations of HUD/FHA requirements alleged by HUD: Automated closed its only approved office and failed to notify HUD.

6. CitiMortgage, Inc. O'Fallon, MO [Docket No. 10-1630-MR]

Action: On February 17, 2010, the Board entered into a settlement agreement with CitiMortgage, Inc. (CMI) requiring CMI to pay a $700,000 administrative payment to HUD without admitting fault or liability.

Cause: The Board took this action based on the following violations of HUD/FHA requirements alleged by HUD: CMI failed to report all delinquent loans to HUD no later than the fifth business day of the following month; CMI failed to correct fatal errors that resulted from its monthly reporting to HUD's Single Family Default Monitoring System; CMI failed to comply with HUD/FHA's default servicing reporting requirements when it failed to timely submit a default servicing report; and CMI failed to fully implement its Quality Control for oversight over this functional area.

7. Cooper and Shein, LLC d/b/a Great Oak Lending Partners, Timonium, MD [Docket No. 10-1035-MR]

Action: On January 25, 2010 the Board issued a Notice of Administrative Action to Cooper and Shein, LLCd/b/a Great Oak Lending Partners (Great Oak) placing them on a six month probation without admitting fault or liability and on March 1, 2010, proposing a settlement agreement requiring Great Oak to pay an $11,000 civil money penalty.

Cause: The Board took this action based on the following violations of HUD/FHA requirements alleged by HUD: Great Oak improperly used a simulated government form and seal to imply that correspondence relating to HUD's Home Equity Conversion Mortgage (HECM) program was from, or endorsed by HUD/FHA; and misrepresented HUD program requirements in an advertisement by informing recipients that they were “entitled” to monthly benefits through the HECM program.

8. Direct Lending, Inc., Livonia, MI [Docket No. 09-9303-MR]

Action: On October 30, 2009, the Board issued a Notice of Administrative action to Direct Lending, Inc. (Direct) permanently withdrawing their FHA approval.

Cause: The Board took this action based on the following violations of HUD/FHA requirements alleged by HUD: Direct failed to notify HUD that its business licenses had become inactive and revoked.

9. Equitable Trust Mortgage Corporation, Baltimore, MD [Docket No. 09-9604-MR]

Action: On December 14, 2009, the Board entered into a settlement agreement with Equitable Trust Mortgage Corporation (Equitable) requiring Equitable to pay a $277,500 civil money penalty and refund broker fees charged to borrowers totaling $147,589.81 without admitting fault or liability.

Cause: The Board took this action based on the following violations of HUD/FHA requirements alleged by HUD: Equitable failed to comply with HUD's requirements concerning Principal-Authorized Agent relationships by permitting loans to close in the name of an authorized agent and Equitable failed to comply with HUD's requirements when it charged borrowers a broker fee for loans it originated and also charged an origination fee, thus receiving a total loan origination fee in excess of the fee permitted by HUD.

10. Federal Guaranty Mortgage Company, Pembroke Pines, FL [Docket No. 09-9823-MR]

Action: On October 30, 2009, the Board issued a Notice of Administrative Action to Federal Guaranty Mortgage Company (Federal) permanently withdrawing their FHA approval.

Cause: The Board took this action based on the following violations of HUD/FHA requirements alleged by HUD: Federal closed its offices and failed to notify HUD.

11. Financial Mortgage USA, Inc. Honolulu, HI [Docket No. 07-7035-MR]

Action: On October 30, 2009, the Board issued a Notice of Administrative Action to Financial Mortgage USA (F.M. USA) imposing a $97,500 civil money penalty and permanently withdrawing F.M. USA's FHA approval.

Cause: The Board took this action based on the following violations of HUD/FHA requirements alleged by HUD: Financial failed to implement a Quality Control Plan in compliance with HUD/FHA requirements; failed to provide a clear and effective separation between Financial Mortgage USA and an identity of interest life insurance company; and failed to comply with HUD/FHA housing counseling requirements.

12. Franklin First Financial LTD, Melville, NY [Docket No. 09-9822-MR]

Action: On March 23, 2010, the Board entered into a settlement agreement with Franklin First Financial LTD (Franklin First) requiring Franklin First to pay a civil money penalty in the amount of $413,500, to indemnify HUD on thirty-one loans, and reimburse fees to 78 borrowers without admitting fault or liability.

Cause: The Board took this action based on the following violations of HUD/FHA requirements alleged by HUD: Franklin First failed to comply with HUD's requirements concerning the registration of the following “doing business as” (d/b/a) names: Hancock First Mortgage Bankers, Kennedy First Mortgage Bankers, Presidents First Mortgage Bankers, and Senior Funding Group with the states in which it was doing business and with the Department; improperly used the HUD seal on its Web site; failed to ensure that loan applications were taken and processed by Franklin First employees; approved loans where borrowers failed to meet HUD's minimum credit requirements because Franklin First failed to provide adequate explanations for the derogatory credit; failed to adequately document the stability and/or source of income used to qualify for loans; failed to adequately document the source of funds used to close loans; approved loans with debt-to-income ratios that exceeded HUD standards without significant compensating factors and/or explanations; charged borrowers excessive and impermissible fees; failed to resolve discrepancies and/or conflicting information in loan documents; failed to complete quality control reviews for loans that were 60 days past due within the first six payments; and failed to have a written quality control plan as required by HUD/FHA.

13. Ideal Mortgage Bankers, Ltd. d/b/a Lend America, Melville, NY [Docket No. 09-9787-MR]

Action: On November 30, 2009, the Board issued a Notice of Administrative Action permanently withdrawing Ideal Mortgage Bankers, LTD's (Ideal) FHA approval and imposing a $512,500 civil money penalty.

Cause: The Board took this action based on the following violations of HUD/FHA Requirements alleged by HUD: Ideal used conflicting information in originating and obtaining HUD/FHA mortgage insurance; submitted false certifications on the HUD 92900-A, Addendum to Uniform Residential Loan Application, which stated that an employee of the lender had obtained the information contained in the application directly from the borrower; approved loans where borrowers failed to meet HUD's minimum credit requirements; failed to adequately document the stability and/or source of income used to qualify the borrowers for the FHA-insured mortgages; failed to document the source of funds used to close the loan or to satisfy various omitted liabilities; omitted liabilities from the underwriting analysis without supporting documentation, approved loans with debt-to-income ratios that exceeded HUD standards without significant compensating factors and/or explanation; exceeded HUD requirements when calculating the maximum insurable mortgage; failed to process a loan in accordance with HUD policy on loans to HUD employees; closed a loan with an excessive mortgage broker fee paid to an FHA-approved loan correspondent; failed to provide the required Verification of Rent to support its loan approval decision; submitted false certifications to HUD in connection with the submission of its Yearly Verification Report that concealed administrative sanctions and investigations by two of Ideal's state regulators; failed to notify HUD that one of Ideal's employees was involved in fraudulent FHA insured mortgage originations in a timely manner; permitted a borrower's Verification of Employment to be hand-carried by the borrower; and approved loans that were not in compliance with FHA appraisal requirements.

14. Ikon Mortgage Lenders, Inc., Ft. Lauderdale, FL [Docket No. 09-9910-MR]

Action: On November 30, 2009, the Board issued a Notice of Administrative Action permanently withdrawing Ikon Mortgage Lenders, Inc.'s (Ikon) FHA approval.

Cause: The Board took this action based on the following violations of HUD/FHA requirements alleged by HUD: Ikon failed to comply with HUD regulations and requirements when Ikon closed its only approved office and failed to notify HUD of the closure.

15. Home Mortgage, Inc., Burr Ridge, IL [Docket No. 10-1632-MR(S)]

Action: On January 25, 2010, the Board issued Home Mortgage Inc. (Home Mortgage) a Notice of Administrative Action suspending their HUD/FHA approval pending the outcome of a legal proceeding for federal indictment.

Cause: The Board took this action based on the following violations of HUD/FHA requirements alleged by HUD: Home Mortgage's Chief Executive Officer and 25% owner was indicted in the United States District Court for the Northern District of Illinois on June 23, 2009, when he was charged with one count of bank fraud for his role in a scheme to create fictitious loans and warehouse those loans; Home Mortgage failed to notify HUD of the indictment; and Home Mortgage failed to submit its Yearly Verification report for 2008.

16. Jett Financial Services, Inc., San Diego, CA [Docket No. 09-9845-MR]

Action: On October 30, 2009, the Board issued a Notice of Administrative Action to Jett Financial Services, Inc. (Jett) permanently withdrawing their FHA approval.

Cause: The Board took this action based on the following violations of HUD/FHA requirements alleged by HUD: Jett closed its only approved office and failed to notify HUD.

17. Liberty State Finance LLC, Parsippany, NJ [Docket No. 09-9560-MR]

Action: On November 30, 2009, the Board issued a Notice of Administrative Action permanently withdrawing Liberty State Finance LLC's (Liberty) FHA approval.

Cause: The Board took this action based on the following violations of HUD/FHA requirements alleged by HUD; Liberty knowingly employed individuals who were debarred and/or had been convicted of an offense that reflects adversely upon its integrity, competence, or fitness to meet the responsibilities of an FHA-approved mortgagee. Specifically, Liberty employed two individuals: (a) One who was debarred by HUD during the relevant period of time; and (b) one who had pleaded guilty to committing HUD fraud. Liberty also falsely certified on HUD Form 92900-A, Addendum to Uniform Residential Loan Application, that two mortgages were eligible for FHA insurance despite the fact that an ineligible individual was involved in the origination of the loans and failed to ensure that loan applications were taken and processed by authorized individuals and employees.

18. Meridian Lending, Monroe, GA [Docket No. 09-9914-MR]

Action: On April 21, 2010, the Board issued a Notice of Administrative Action to Meridian Lending (Meridian) immediately withdrawing their FHA approval for a period of one year.

Cause: The Board took this action based on the following violations of HUD/FHA requirements alleged by HUD: Meridian approved and closed a loan where the spouse was added to title without regard for his/her debts and overall creditworthiness; failed to perform quality control reviews of loans that went into default within the first six months; and failed to notify HUD of a business change when it failed to notify HUD that it had closed its home office.

19. Nations Direct, LLC, Irvine, CA [Docket No. 08-8099-MR]

Action: On December 1, 2009, the Board entered into a settlement agreement with Nations Direct, LLC (Nations Direct) requiring Nations Direct to pay a $3,500 civil money penalty.

Cause: The Board took this action based on the following violations of HUD/FHA requirements alleged by HUD; Nations Direct used the official HUD logo on materials posted on its corporate Web site.

20. North Shore Financial, Inc., East Meadow, NY [Docket No. 09-9623-MR]

Action: On November 30, 2009, the Board issued a Notice of Administrative Action to North Shore Financial, Inc. (North Shore) immediately and permanently withdrawing their FHA approval.

Cause: The Board took this action based on the following violations of HUD/FHA requirements alleged by HUD: North Shore permitted non-employees and/or mortgage brokers to participate in the loan process; failed to adequately staff its office because it never had any employees; failed to comply with multiple requests from HUD's OIG Office of Investigation to make its mortgage origination files available for review; and failed to provide evidence that original documents were reviewed, in that the loan files contained faxed documents with no indication that North Shore received and/or reviewed the original documents, or was able to clearly identify the source from which the documents originated.

21. Paramount Bond Mortgage Company, Inc., St Louis, MO [Docket No 09-9262-MR]

Action: On March 29, 2010, the Board entered into a settlement agreement with Paramount Bond Mortgage Company, Inc. (Paramount) requiring Paramount to pay a $68,500 civil money penalty and to indemnify HUD on nine loans without admitting fault or liability.

Cause: The Board took this action based on the following violations of HUD/FHA requirements alleged by HUD: Paramount failed to ensure that its employees were exclusive and did not have outside employment in the mortgage lending, real estate, or other related field; failed to adequately document income, a stable two-year employment history, and other forms of effective qualifying income; failed to document significant compensating factors for loans that exceeded HUD's debt-to-income ratio; failed to document the source and/or adequacy of borrowers' funds required to close the loans; and failed to include all of the borrower's liabilities in loan qualification for loans.

22. Premiere Service Mortgage Corp, Westchester, OH [Docket No. 09-9001-MR]

Action: On October 30, 2009, the Board issued a Notice of Administrative Action to Premiere Service Mortgage Corp. (Premiere) permanently withdrawing their FHA approval.

Cause: The Board took this action based on the following violations of HUD/FHA requirements alleged by HUD: Premiere closed its approved offices and failed to notify HUD.

23. Premium Capital Funding LLC d/b/a TopDot Mortgage, Jericho, NY [Docket No. 09-9001-MR]

Action: On January 25, 2010, the Board issued a Notice of Administrative Action to Premium Capital Funding LLC d/b/a TopDot Mortgage (Premium) permanently withdrawing their FHA approval and imposing a civil money penalty in the amount of $674,000.

Cause: The Board took this action based on the following violations of HUD/FHA requirements alleged by HUD: Premium failed to maintain and implement a Quality Control Plan in compliance with FHA requirements; failed to ensure that QC reviews were conducted on loans that went into default within the first six months; failed to resolve discrepancies and/or conflicting information in the origination of loans; failed to document a stable two-year employment history and other forms of effective income on loans; approved loans with debt-to-income ratios that exceeded HUD standards without significant compensating factors; failed to calculate income properly on loans; approved loans that did not meet minimum credit requirements; omitted revolving and installment debt liabilities on loans without documenting that the balance had been paid or otherwise should have been excluded; allowed an appraiser who was not on the FHA Roster to appraise a home on a loan; failed to ensure that loans met the eligibility requirements for FHA insurance; and exceeded HUD requirements when they calculated the maximum mortgage amount.

24. PrimeWest Mortgage Corporation, Lubbock, TX [Docket No. 09-9613-MR]

Action: On February 2, 2010, the Board entered into a settlement agreement with PrimeWest Mortgage Corp (PrimeWest) requiring PrimeWest to pay a $168,500 civil money penalty without admitting fault or liability.

Cause: The Board took this action based on the following violations of HUD/FHA requirements alleged by HUD: PrimeWest permitted a third-party to originate HUD/FHA insured mortgage loans, and subsequently submitted false certifications to HUD that these loans were originated by a full-time employee; failed to implement a Quality Control (QC) plan in compliance with HUD/FHA requirements; failed to maintain QC reports as required by HUD/FHA; failed to document the borrower's income in accordance with FHA requirements; and charged a borrower an unallowable tax service fee.

25. ProMortgage, Incorporated, Claremore, OK [Docket No. 09-9605-MR]

Action: On January 25, 2010, the Board issued a Notice of Administrative Action to ProMortgage, Inc. (ProMortgage) permanently withdrawing their FHA approval and imposing a civil money penalty in the amount of $124,000.

Cause: The Board took this action based on the following violations of HUD/FHA requirements alleged by HUD: ProMortgage failed to perform a Quality Control review on loans that went into default within the first six payments; failed to adopt and maintain a Quality Control (QC) Plan in accordance with HUD/FHA requirements; engaged in a prohibited branch arrangement; made false certifications on the form HUD-92900-A Addendum to the Uniform Residential Loan Application (URLA); failed to comply with HUD/FHA requirements for home office operations; failed to report compensation to an employee on IRS form W-2; and failed to process Verifications of Employment (VOE) on loans in compliance with HUD/FHA requirements.

26. Strategic Mortgage Corp., Oklahoma City, OK [Docket No.09-9606-MR]

Action: On January 25, 2010, the Board issued a Notice of Administrative Action to Strategic Mortgage Corp.'s (Strategic) permanently withdrawing their FHA approval and imposing a civil money penalty against Strategic in the amount of $71,000.

Cause: The Board took this action based on the following violations of HUD/FHA requirements alleged by HUD: Strategic hired loan officers as independent contractors and reported their compensation on IRS form 1099's instead of the required W-2 forms; improperly charged borrowers a broker fee in addition to an approximate 1% origination fee for loans it originated; submitted a false certification to the Department in connection with an FHA-insured loan; and failed to disclose the broker fees charged to borrowers on the Good Faith Estimates (GFE); charged borrowers commitment fees without a written agreement guaranteeing the interest rate and discount points.

27. Sun West Mortgage Company, Inc., Cerritos, CA [Docket No. 09-9806-MR]

Action: On December 1, 2009, the Board entered into a settlement agreement with Sun West Mortgage Company (Sun West) requiring Sun West to pay a $10,000 civil money penalty without admitting fault or liability and issued Sun West a letter of reprimand.

Cause: The Board took this action based on the following violations of HUD/FHA requirements alleged by HUD: Sun West underwrote HECM loans without having the necessary HECM lending license in the state where the properties were located and failed to notify the Department that the Massachusetts Commissioner of Banks had issued a Findings of Fact and Temporary Order to Cease and Desist against it.

28. USA Home Loans, Towson, MD [Docket No. 09-9374-MR]

Action: On October 30, 2009, the Board issued a Notice of Administrative Action to permanently withdraw USA Home Loan's FHA approval.

Cause: The Board took this action based on the following violations of HUD/FHA requirements alleged by HUD: USA Home Loans failed to ensure HUD's minimum credit requirements were satisfied; failed to verify income and employment histories; failed to document the source and/or adequacy of funds for the closing costs and/or debt satisfaction; failed to verify documents faxed from an unknown source; failed to ensure that properties met the conditions specified on the Uniform Residential Appraisal Reports, and were eligible for FHA insurance; failed to discontinue misleading advertising concerning the FHA Mortgage Insurance Premium Refund, despite previous sanctions imposed by the Board for the same violation; charged prohibited, duplicative, and/or non-customary, non-reasonable fees to borrowers; failed to ensure the completeness and accuracy of the data submitted to HUD; failed to develop and implement a Quality Control Plan in accordance with HUD/FHA requirements; and failed to notify HUD/FHA that it did not renew its license to originate home mortgages.

29. US Bank, NA, Minneapolis, MN [Docket No. 09-9441-MR]

Action: On February 2, 2010, the Board entered into a settlement agreement with US Bank, NA requiring US Bank, NA to pay a $37,500 civil money penalty without admitting fault or liability.

Cause: The Board took this action based on the following violations of HUD/FHA requirements alleged by HUD: US Bank, NA failed to comply with HUD documentation requirements for the assignment of a defaulted multi-family apartment mortgage.

30. U.S. Mortgage Corp., Pine Brook, NJ [Docket No. 09-9615-MR]

Action: On October 30, 2009, the Board issued a Notice of Administrative Action to immediately and permanently withdraw U.S. Mortgage Corp.'s FHA approval.

Cause: The Board took this action based on the following violations of HUD/FHA requirements alleged by HUD: U.S. Mortgage Corp. no longer had the requisite warehouse line of credit or other mortgage-funding program acceptable to HUD.

32. VanDyk Mortgage Corporation, Grand Rapids, MI [Docket No. 09-9602-MR]

Action: On December 1, 2009, the Board entered into a settlement agreement with VanDyk Mortgage Corporation (VanDyk) requiring the payment of a $7,500 civil money penalty and requiring VanDyk to indemnify HUD against future losses on two loans without admitting fault or liability.

Cause: The Board took this action based on the following violations of HUD/FHA requirements alleged by HUD: VanDyk failed to ensure that loan applications were taken and processed by authorized employees; failed to document income in accordance with FHA requirements; and failed to adhere to FHA/HUD requirements regarding an employee's involvement in obtaining an FHA-insured loan for themselves.

II. Lenders That Failed To Meet Requirements for Annual Recertification of HUD/FHA Approval

Action: The Board voted to immediately withdraw FHA approval for a period of one year for each of the lenders listed below.

Cause: The Board took this action because the lenders were not in compliance with the Department's annual recertification requirements.

1. 1st Advantage Mortgage LLC, Lombard, IL.

2. 1st Alliance Banc Corporation, Chicago, IL.

3. 1st America LLC, Scottsdale, AZ.

4. 1st American Funding LLC, Fairfield, NJ.

5. 1st Family Mortgage Inc., Cooper City, FL.

6. 1st Nations Mortgage Corp, Louisville, CO.

7. 2CI Direct LLC, Westlake Village, CA.

8. 4G Funding Inc., Port Jefferson Stat, NY.

9. A & R Mortgage Inc., Downers Grove, IL.

10. AAA Mortgage Loans Investments, Saint Petersburg, FL.

11. AAA Reverse Mortgage Inc., Kissimmee, FL.

12. Aarow Mortgage Services Inc., Laurel, MD.

13. ABBA Mortgage Company LLC, Alexandria, VA.

14. ABC Home Loans, Reisterstown, MD.

15. ABN AMRO Mortgage Group, Troy, MI.

16. Absolute Lending Group Inc., Doral, FL.

17. Abstract Mortgage Services Inc., Nashville, TN.

18. Abundant Life Mortgage & Financial Serv, Reynoldsburg, OH.

19. Acacia Mortgage Corporation, Mesa, AZ.

20. Acadian Financial LLC, Grand Rapids, MI.

21. Accelerated Equity and Development Inc., Bluffdale, UT.

22. Accelerated Home Loan LLC, Toms River, NJ.

23. Access Financial Group Inc., McDonough, GA.

24. Access Funding Partners LLC, Saint Louis, MO.

25. Access Mortgage Corporation, Warwick, RI.

26. Acclaim Mortgage, Denver, CO.

27. Ace Mortgage Funding LLC, Indianapolis, IN.

28. Adam Smith Mortgage Inc., Marlborough, MA.

29. Adept Financial Consulting Inc., Minneapolis, MN.

30. Advanced Home Loans Corporation, Marco Island, FL.

31. Advanced Mortgage Solutions, Chandler, AZ.

32. Advantage First Mortgage Inc., Beaverton, OR.

33. Advantage Funding Group LLC, Saint Paul, MN.

34. Advantage One Mortgage Corporation, Plantation, FL.

35. Advantage One Mortgage Services Corp, Mount Laurel, NJ.

36. Advantix Lending Inc., Irvine, CA.

37. Advent Mortgage LLC, Louisville, KY.

38. Advocate Mortgage Group Inc., Baltimore, MD.

39. Aegis Wholesale Corporation, Houston, TX.

40. Aero Lending Group Inc., Dublin, OH.

41. AHM SV, Inc., Irving, TX.

42. AIM American Mortgage Inc., Houston, TX.

43. Alan Benjamin Mortgage Services LLC, Dublin, OH.

44. All American Mortgage Co Inc., Miami, FL.

45. All American Mortgage Inc., Hermitage, TN.

46. All Credit Mortgage LLC, De Pere, WI.

47. All Nations Mortgage Corp, Las Vegas, NV.

48. All Time Mortgage Corporation, Miami, FL.

49. All-America Financial Incorporated, Laguna Hills, CA.

50. All-American Mortgage Network, Southfield, MI.

51. Alliance Financial Services LLC, Montgomery, AL.

52. Alliance Mortgage Inc., Ridgeland, MS.

53. Alliance Resource Mortgage Company LLC, Mobile, AL (Titles 1 & 2).

54. Allied Capital Mortgage Company, Jacksonville, FL.

55. Alligriff Mortgage Corporation, Washington Ct House, OH.

56. Always Home Mortgage LLC, Syracuse, NY.

57. Ambassador Funding and Investments Inc., Valley Springs, CA.

58. AME Financial Corporation, Alpharetta, GA.

59. Ameribanc Financial Corporation, West Dundee, IL.

60. America East Mortgage LLC, Frederick, MD.

61. America First Mortgage Co Inc., Glen Carbon, IL.

62. America Mortgage Company, Chicago, IL.

63. America One Financial Inc., Portland, OR.

64. American Capital Mortgage Corp., Portland, OR.

65. American Central Mortgage Corp, Northlake, IL.

66. American Dream Funding Corporation, Maryville, IL.

67. American Elite Mortgage Inc., Salt Lake City, UT.

68. American Family Mortgage Corp, Wilmington, DE.

69. American Family Mortgage Partners Inc., Coral Gables, FL.

70. American Financial Partners LLC, Maryland Heights, MO.

71. American Group Mortgage Corp, Newtown, PA.

72. American Guaranty Mortgage, LLC, Greenwood Village, CO.

73. American Home Lending Inc., Bellmawr, NJ.

74. American Home Loans LLC, Fishers, IN.

75. American Home Mortgage Corp, Waterford, MI.

76. American Mortgage Funding Corp, Fort Lauderdale, FL.

77. American Mortgage Services LLC, Green Bay, WI.

78. American Nationwide Mortgage Inc., Las Vegas, NV.

79. American River Bank, Cameron Park, CA.

80. America's 1st Mortgage Services Inc., Augusta, GA.

81. America's Best Lending Network, Coral Springs, FL.

82. America's Best Mortgage Inc., Brandon, FL.

83. America's First Choice Lending, Inc., Duluth, GA.

84. America's Lending Solutions, LTD, Seven Hills, OH.

85. America's Mortgage Corp, Lake Worth, FL.

86. Americas Mortgage Group Inc., Columbus, OH.

87. Americas Mortgage Solutions LLC, Plantation, FL.

88. Americawide Inc., Westlake Village, CA.

89. Americor Lending Group Inc., Santa Ana, CA.

90. Ameritrust Mortgage Services LLC, Greenwood, IN.

91. Amstar Financial Mortgage Inc., Atlanta, GA.

92. Anastasia Mortgage Corp., St. Augustine, FL.

93. ANB Financial National Association, Bentonville, AZ.

94. Anchor Mortgage LLC, Gilbert, AZ.

95. Ancient City Mortgage, Saint Augustine, FL.

96. A-One Mortgage Consultants Inc., Hollywood, FL.

97. Apex Mortgage Services LLC, Columbus, OH.

98. Apex Mortgage Solutions LLC, Clearwater, FL.

99. Apollo Mortgage Group LLC, Birmingham, MI.

100. Arcadia Mortgage Inc., Salt Lake City, UT.

101. Argosy Financial Group, LLC, Lyndhurst, NJ.

102. Arizona Sonora Mortgage Inc., Tucson, AZ.

103. Armanini Inc., Wailuku, HI.

104. Artisan Mortgage LLC, Metairie, LA.

105. Artisan Mortgage LLC, Scottsdale, AZ.

106. Ashley Valley Financial Services Inc., Vernal, UT.

107. Asix Group, Inc., Indianapolis, IN (Titles 1 & 2).

108. Asset Managing Group Inc., Jacksonville, FL.

109. At Home Mortgage Corp, Neosho, MO.

110. Atlantic Capital Mortgage, Clearwater, FL.

111. Atlantic Coast Mortgage Svcs, Pleasantville, NJ.

112. Atlantic Lending Corporation, Jupiter, FL.

113. AtlantisFinancial Services Inc., Sewickley, PA.

114. Aurora Financial Services Inc., New Orleans, LA.

115. Avenya Inc., Brandon, FL.

116. Axis Mortgage Corporation, Oswego, IL.

117. Aztec Funding, Somerton, AZ.

118. Banc Home Loans LLC, Hanover, MD.

119. Banc Ohio Mortgage Corporation, Fairlawn, OH.

120. Bank of Astoria, Warrenton, OR.

121. Bank of Clark County, Vancouver, WA.

122. Bankcredit Mortgage Inc., Boca Raton, FL (Titles 1 & 2).

123. Bankstreet Mortgage LLC, New London, CT.

124. Bann Cor Mortgage Inc., Mission Viejo, CA (Titles 1 & 2).

125. Barrington Mortgage, Barrington, IL.

126. Bay Mortgage Services Inc., Plymouth, MA (Titles 1 & 2).

127. Bayside Mortgage Funding Inc., Clearwater, FL.

128. Becker Group Financial, Sacramento, CA.

129. Beneficial Financial Mortgage Corp, Hialeah, FL.

130. Bergin Financial Inc., Southfield, MI.

131. Berman Mortgage Corporation, Miami, FL.

132. Best American Mortgage Company LLC, Hinesville, GA.

133. Better Family Mortgage Corp., St. Louis, MO.

134. Bhatti Enterprises Inc., Ft Lauderdale, FL.

135. Black Diamond Mortgage Inc., Oakbrook Terrace, IL.

136. Blatz Mortgage Company LLC, Prattville, AL.

137. Blee Financial Inc., Inglewood, CA.

138. Blue Bell Mortgage Group LP, Blue Bell, PA.

139. Blue Cap Funding LLC, Baltimore, MD.

140. Blue Chicago Financial Corp, Chicago, IL.

141. Blue Saphire Investments, Union City, CA (Titles 1 & 2).

142. Bona Fide Mortgage Corporation, Wilmington, DE.

143. Bright Star Mortgage Company, Westchester, IL.

144. Broad Ripple Mortgage Inc., Indianapolis, IN.

145. Broad Solutions Lending LP, Plano, TX.

146. Brown and Wagner Mortgage Inc., Springfield, MO.

147. Bryco Funding Inc., San Francisco, CA.

148. Builders Mortgage LLC, Scottsdale, AZ.

149. Burton and Burton Mortgage Inc., Tallahassee, FL.

150. Bush & Hewitt Holding Inc., Temecula, CA.

151. BWM Mortgage LLC, Wauwatosa, WI.

152. C and G Financial Services Inc., Upland, CA.

153. Cal State Relocation Inc., Carmichael, CA.

154. California Funding Corp, Los Angeles, CA.

155. California Home Investments, Anaheim, CA.

156. Callycorp Financial Inc., Vancouver, WA.

157. Cambridge Financial Group LLC, Bingham Farms, MI.

158. Capital City Mortgage Incorporated, Costa Mesa, CA (Titles 1 & 2).

159. Capital Direct Financial Inc., Rancho Santa Margar, CA.

160. Capital Finance, Inc., Saint Paul, MN.

161. Capital Financial Services, Inc., Salt Lake City, UT (Titles 1 & 2).

162. Capital Home Loans Inc., Allentown, PA.

163. Capital Mortgage Corporation, East Greenwich, RI.

164. Capital Trust Mortgage & Financial Group, Atlanta, GA.

165. Capstar Mortgage Bankers Inc., Melville, NY.

166. Capstone Inc., Vancouver, WA.

167. Captus Capital Inc., Vienna, VA.

168. Cardinal Banc Mortgage Corp, Brecksville, OH.

169. Carnegie Hill Corporation, Scottsdale, AZ.

170. Casa Blanca Mortgage Inc., Woodland Hills, CA (Titles 1 & 2).

171. Cash Fast Finance LLC, Phoenix, AZ.

172. Cassius Inc., Richmond, KY.

173. CBA Commercial, LLC, Stamford, CT.

174. CBAC Funding LLC, Stamford, CT.

175. CBSK Financial Group INC, Irvine, CA (Titles 1 & 2).

176. Cedar Mortgage Company, San Jose, CA.

177. Celebrity Mortgage LLC, Parsippany, NJ (Titles 1 & 2).

178. Centennial Financial Services Inc., Wayne, NJ.

179. Centennial Mortgage and Financial Serv I, Centennial, CO.

180. Central Coast One Stop Mortgage Group Inc., Santa Maria, CA.

181. Central Fidelity Mortgage Corporation, Atlanta, GA.

182. Central Funding Inc., Duluth, GA.

183. CenTrust Bank, Deerfield, IL.

184. Century Bank NA, Dallas, TX.

185. Century Home Mortgage LLC, Southaven, MS.

186. Century Plaza Mortgage, Rowland Heights, CA.

187. Cetus Mortgage LTD, Reno, NV.

188. Challenge Financial Investors Corp, Saint Petersburg, FL.

189. Champion Lending Group, El Paso, TX.

190. Charter Mortgage Corporation, Tulsa, OK.

191. Charter West Mortgage, LLC, Grand Rapids, MN.

192. CHFS LTD, Mesquite, TX.

193. Chicago First Mortgage Inc., Chicago, IL.

194. Chicago Funding Inc., Addison, IL.

195. Chicago United Mortgage Inc., Chicago, IL.

196. Choice Bank, Scottsdale, AZ.

197. Choice Mortgage Company, Pontiac, MI.

198. Choice One Mortgage Inc., Lake Zurich, IL.

199. Citizens First Mortgage Solutions Inc., Snellville, GA.

200. Citizens State Bank, Kingsland, GA.

201. City and Suburban, FSB, Yonkers, NY.

202. City Mortgage Group Inc., Vienna, VA.

203. City National Bank, Longview, TX.

204. Cityfirst Mortgage LLC, Colorado Springs, CO.

205. Citywide Financial Group, Long Beach, CA.

206. Citywide Mortgage Corp, Landover, MD.

207. CJM Mortgage Corp, Pompton Lakes, NJ.

208. Clark Welsh Mortgage Group Inc., Indianapolis, IN.

209. Clarkston State Bank, Clarkston, MI.

210. Classic Home Mortgage LLC, Centennial, CO.

211. Classic Mortgage Funding Inc., Winter Park, FL.

212. Classic Mortgage, O Fallon, IL.

213. Clearwater Mortgage Acceptance Corp, Sebring, FL.

214. Coast 2 Coast Group Inc., Las Vegas, NV.

215. Coastal Carolina Mortgage Lenders Inc., Kinston, NC.

216. Cobb Energy Mortgage Services LLC, Marietta, GA.

217. Coldwater Canyon Capital, LLC, Broomall, PA.

218. Collateral Mortgage Corporation, Woodstock, GA.

219. Colonial Atlantic Mortgage Inc., Silver Spring, MD.

220. Colonial Credit LLC, West Warwick, RI.

221. Colonial Mortgage Lending Inc., Fort Lauderdale, FL.

222. Colorado Lending Group I LLC, Westminster, CO.

223. Colson Mortgage Company, LP, North Richland Hill, TX.

224. Community Bank Meridian MS, Meridian, MS.

225. Community Home Lending Inc., Birmingham, AL.

226. Community Home Mortgage Corp, Fort Lauderdale, FL.

227. Comparison Mortgage Inc., Redford, MI.

228. Compass Mortgage LLC, Edmonds, WA.

229. Compass Mortgage Services Inc., Boca Raton, FL.

230. Complete Mortgage Corporation, Farmington Hills, MI.

231. Construction Lending Group Inc., Ft Lauderdale, FL.

232. Consumer Credit Services Inc., Orange Park, FL.

233. Continental Mortgage Funding Corporation, Indianapolis, IN.

234. Cornerstone Mortgage Corp, Lake Oswego, OR.

235. Corporate Capital Mortgage, Inc., Copiague, NY.

236. Countryside Home Loans, Cockeysville, MD.

237. Credit Financial Services LLC, Cincinnati, OH.

238. Cresland Mortgage Co LLC, Plymouth, MN.

239. Crosscountry Home Loans Inc., Brea, CA.

240. CSM Mortgage Inc., Leawood, KS.

241. CSMG Corp, Las Vegas, NV.

242. Cumberland Bank, Franklin, TN.

243. Dalmac Mortgage Inc., Houston, TX.

244. Dana Capital Group Inc., Irvine, CA (Titles 1 & 2).

245. Del Mar Home Loans Inc., La Mesa, CA.

246. Delta Financial Corp, Oakland Park, FL.

247. Delta Home Loans Inc., Los Angeles, CA.

248. Deschutes Mortgage Group Inc., Bend, OR.

249. Desert Valley Mortgage, Saint George, UT.

250. Dewitt Mortgage Group Inc., Evansville, IN.

251. Diamond Home Mortgage Corporation, Westmont, IL.

252. Direct Financial Solutions Corp, Riverdale, NJ.

253. Direct Lending Inc., Livonia, MI.

254. Direct Loan Funding Inc., Foothill Ranch, CA.

255. Direct Mortgage Inc., Rancho Cucamonga, CA (Titles 1 & 2).

256. Discount Mortgage Finders, Fort Lauderdale, FL.

257. Discount Mortgage Lenders, Inc., Oak Brook, IL.

258. Diversified Mortgage Services, Inc., Louisville, KY.

259. Dixie Mortgage Corp., Lake Worth, FL.

260. Dollar Investment Corp., Memphis, TN.

261. Dollar Mortgage Corporation, La Mesa, CA (Titles 1 & 2).

262. Dolphin Mortgage Corporation, Lombard, IL.

263. Domus Mortgage Services, Inc., Blauvelt, NY.

264. Dougherty Mortgage, Inc., Homewood, IL.

265. Douglass Bank, Kansas City, KS (Titles 1 & 2).

266. Dream House Mortgage Corporation, Providence, RI.

267. DTR Investments, Inc., Atlanta, GA.

268. Dynamic Mortgage Bankers Ltd., Westbury, NY.

269. E Lending Corp., Cleveland, OH.

270. E Loan Mortgage Funding Corp., Parsippany, NJ.

271. Eagle Mortgage and Consultants, Inc., Lansing, IL.

272. Eagle Mortgage Brokerage, Inc., Peoria, IL.

273. Eastern American Mortgage Co., Little Falls, NJ (Titles 1 & 2).

274. Eastern Residential Mortgage LLC, Columbia, MD.

275. Efficient Lending Corp., Irvine, CA (Titles 1 & 2).

276. ELend Mortgage LLC, Houston, TX.

277. Elite Capital Management, Inc., Palos Heights, IL.

278. Elite Mortgage Company, Schaumburg, IL.

279. Elite Mortgage Group, Inc., Ridgefield, NJ.

280. E-Loan, Inc., Pleasanton, CA.

281. Elysian Mortgage LLC, Hoboken, NJ.

282. Embassy Mortgage, Inc., Silver Spring, MD.

283. Emerald Financial Group LLC, Independence, OH.

284. Emic International Corp., Dallas, TX.

285. Empire Mortgage Services II, Inc., Palm Harbor, FL.

286. Entrust Mortgage, Inc., Englewood, CO (Titles 1 & 2).

287. Equity 1 Mortgage, LLC, Brookfield, WI.

288. Esperanza Financial Services, Inc., Berwyn, IL.

289. Evergreen Mortgage Co., Inc., Smithtown, NY.

290. Evergreen Mortgage Services LLC, Canton, MI.

291. EVest Lending, Inc., Westbrook, ME.

292. Excellence Mortgage Corporation, Sandy, UT.

293. Exclusive Bancorp, Inc., Lincolnwood, IL.

294. Exclusive Home Mortgage, Inc., Kissimmee, FL.

295. Exclusive Metro Mortgage LLC, Atlanta, GA.

296. Executive Funding, Inc., Ogden, UT.

297. E-Z Mortgage Corp., Union City, NJ.

298. Fairway Mortgage Corporation, Crofton, MD.

299. Family Home Mortgage, Inc., Ligonier, PA.

300. Family Investment Mortgage, Palm Harbor, FL.

301. Familyhomeloans.Net, Inc., Laguna Hills, CA.

302. Farmers State Bank of Fulton County, Lewistown, IL.

303. Fast Track Funding Corp., Hicksville, NY.

304. Fastrack Financial LLC, Dearborn, MI.

305. FCM Corporation, Canoga Park, CA.

306. FCRMS, Inc., San Diego, CA.

307. Federalguaranty Mortgage Company, Pembroke Pines, FL.

308. FHM Mortgage Group LLC, Parsippany, NJ.

309. Fidelity Mortgage Co., Inc., West Bloomfield, MI.

310. Fidelity Mutual Mortgage, Inc., North Palm Beach, FL (Titles 1 & 2).

311. Fifth Third Bank, Cincinnati, OH.

312. Finance First Mortgage Corp., Hialeah, FL.

313. Finance Mortgage of America, Inc., Miami, FL.

314. Financial Center Mortgage and Investment, Lake Oswego, OR.

315. Financial Lending Group, Inc., Miami, FL.

316. First American Bank, Decatur, AL.

317. First Atlantic Resources Corp., Manasquan, NJ.

318. First Bank of Arizona N.A., Scottsdale, AZ.

319. First Call Mortgage Company, Andover, MA.

320. First Capital Mortgage of Central Florida, Maitland, FL.

321. First Choice Mortgage Corporation, Florence, KY.

322. First Class Financial Corporation, Southfield, MI.

323. First Commercial Bank N.A., Little Rock, AR.

324. First Countywide Mortgage Corp., Hialeah, FL (Titles 1 & 2).

325. First Discount Mortgage, Atlanta, GA.

326. First Equity Funding Corp., Lauderdale Lakes, FL.

327. First Fidelity Financial Corp., Ft. Lauderdale, FL.

328. First Fidelity Mortgage Group Ltd., Smithtown, NY.

329. First Financial Home Lending, Inc., Cincinnati, OH.

330. First Financial Lending LLC, Wauwatosa, WI.

331. First Florida International Mortgage, Kissimmee, FL.

332. First Florida State Mortgage Corporation, Melbourne, FL.

333. First Gulf Bank, Summerdale, AL.

334. First Heritage Mortgage Corp., Altamonte, FL.

335. First Home Financial Services, Inc., Chesterfield, MO.

336. First Independent Bank, Vancouver, WA.

337. First Jersey Mortgage Services, Inc., Union City, NJ.

338. First Lenders Choice Corp., Miami, FL.

339. First Madison Mortgage Corporation, Rockville, MD.

340. First Madison Services, Inc., Shelton, CT.

341. First Mortgages Lenders of Tampa Bay, Inc., Palm Harbor, FL.

342. First National Bank of Millstadt, Millstadt, IL.

343. First National Bank of Nevada, Scottsdale, AZ.

344. First National Bank, Christiansburg, VA.

345. First National Mortgage Bank, Inc., Dayton, OH.

346. First Option Mortgage, Inc., Roseville, CA.

347. First Pacific Funding Corporation, Upland, CA.

348. First Premier Finance LLC, Branson, MO.

349. First Priority Mortgage, Inc., Norcross, GA.

350. First Quest Financial Corp., North Wales, PA.

351. First Quest Financial, Inc., Santa Ana, CA.

352. First Rate Mortgage Co., Fraser, MI.

353. First Southern Mortgage Company, Inc., Mobile, AL.

354. First State Home Loan Ltd., Austin, TX.

355. First State Mortgage Company, Longwood, FL.

356. First Street Financial, Inc., Irvine, CA.

357. First Suburban Mortgage Corp., Riverside, IL.

358. First Trade Union Savings Bank FSB, Boston, MA.

359. First United Mortgage Banking Corp., Jericho, NY.

360. First Universal Financial, Inc., Reno, NV.

361. Firstcity Bank, Stockbridge, GA.

362. Five Star Mortgage Services, Inc., Jacksonville, FL (Titles 1 & 2).

363. Fixed Rate Holdings, Inc., Lake Forest, CA.

364. Florida Atlantic Mortgage Corp., Inc., Margate, FL.

365. Florida Business Finance Corp., Jacksonville, FL (Titles 1 & 2).

366. Florida Living Mortgage Group Corp., Orlando, FL.

367. Florida's Best Home Mortgages, Inc., Parkland, FL.

368. Floridian Bank, Daytona Beach, FL.

369. Focus Financial LP, Ogden, UT.

370. Ford Financial LLC, Somerville, NJ.

371. Foremost Mortgage Associates, Inc., Cranston, RI.

372. Fort Knox National Bank, Elizabethtown, KY.

373. Four Corners Realty Financial, Irvine, CA.

374. Franale LLC, Houston, TX.

375. Franklin Bank SSB, Houston, TX.

376. Freedom Bank of Georgia, Commerce, GA.

377. Freedom Home Mortgage Corp., Wayne, NJ.

378. Freedom Homes, Inc., Oklahoma City, OK.

379. Freedom Mortgage Team, Inc., Oakbrook Terrace, IL.

380. FSM Holding Corp., San Diego, CA.

381. Full Circle Financial LLC, Kent, WA.

382. Funded Capital Mortgage, Inc., Beverly Hills, CA.

383. Funding Mortgage Ltd., Chicago, IL.

384. Future Financial LLC, Oakbrook Terrace, IL.

385. G and G Financial Network, Inc., Fort Collins, CO.

386. G.M.C. Financial Corporation, Phoenix, AZ.

387. Gateway Home Loans LLC, Glastonbury, CT.

388. Gateway Mortgage Lending, Inc., Clive, IA.

389. GB&T Bancshares, Inc., Cumming, GA.

390. Generation V, Inc., Greenwood Village, CO.

391. Genesis Financial Group LLC, Smyrna, TN (Titles 1 & 2).

392. Geneva Mortgage Corp., Rockville Centre, NY.

393. Georgia Mortgage Consultants, Inc., Acworth, GA.

394. GFTR Holdings, Inc., Atlanta, GA.

395. Gibraltar Mortgage Corporation, East Lansing, MI.

396. Gibraltar Mortgage Loans & Investment Inc., Hudson, FL.

397. Global Equity Lending, Inc., Johns Creek, GA.

398. Globe Mortgage Network, Inc., Boca Raton, FL.

399. GMAC Mortgage USA Corporation, Kailua, HI.

400. Go Financial Group, Inc., Greenbelt, MD.

401. Gold Coast Mortgage LLC, Northfield, NJ.

402. Gold Mortgage Banc, Inc., Olathe, KS.

403. Golf Crest Mortgage, Inc., Tampa, FL.

404. Goodman Financial Institute of America, St. Petersburg, FL.

405. Grand Central Mortgage Corp., Birmingham, AL.

406. Grand Mortgage Corporation, Palatine, IL.

407. Great New England Mortgage Co., Inc., North Attleboro, MA.

408. Greater Northwest Mortgage, Inc., Clackamas, OR.

409. Greater United Home Funding, Inc., Orlando, FL.

410. Green Pastures Mortgage & Finance Co. LLC, Lutherville, MD.

411. Greylock Federal Credit Union, Pittsfield, MA.

412. Gulf Coast Mortgage Financial Services I, Fort Myers, FL.

413. Habitat Mortgage Company, Inc., Westlake, OH.

414. Hamilton Mortgage Company, Phoenix, AZ.

415. Hammersmith Financial Corp., Inc., Houston, TX.

416. Heartwell Mortgage Corporation, Grand Rapids, MI.

417. Heavensent Financial Group, Inc., Houston, TX.

418. Heritage Mortgage Corp. of Southwest Florida, Port Charlotte, FL.

419. Heritage Mortgage LLC, Manassas, VA.

420. HMS Capital, Inc., Westlake Village, CA.

421. Hollywood Mortgage Corporation, Miramar, FL.

422. Home America Mortgage, Inc., Lawrenceville, GA.

423. Home Capital Funding, San Diego, CA.

424. Home Capital, Inc., Atlanta, GA.

425. Home Center Mortgage, Norco, CA.

426. Home Equity Mortgage Corporation, Miami, FL.

427. Home Equity Store, Inc., Draper, UT.

428. Home Financial Services, Inc., Mineola, NY.

429. Home First Funding LLC, Winter Park, FL.

430. Home First Mortgage, Inc., Saint Louis, MO.

431. Home Loan Funding, Inc., Irvine, CA.

432. Home Mortgage Finance Group Corp., Cutler Bay, FL.

433. Home Mortgage Solutions, Inc., Greenwood Village, CO.

434. Home Mortgage, Inc., Burr Ridge, IL.

435. Home One Mortgage, LLC, Largo, MD.

436. Home Savings Mortgage, Calabasas, CA.

437. Home Source Mortgage LLC, Boise, ID.

438. Home Star Mortgage Corp., Merrick, NY.

439. Homefield Financial, Inc., Irvine, CA (Titles 1 & 2).

440. Homelenders Financial Services, Inc., Tempe, AZ.

441. Homeowners Friend Mortgage Company, Inc., Orange, CA.

442. HomeQuest Mortgage Corp., Lombard, IL.

443. Homes and Loans, Inc., Sacramento, CA.

444. Homesamerica Mortgage Service, Inc., Miami, FL.

445. HomeSouth Mortgage Corporation, Jacksonville, FL.

446. Homestead Mortgage Corporation, Schaumburg, IL.

447. Horizon Direct, Inc., Agoura Hills, CA.

448. Horizon Financial Corporation, Fairfield, NJ.

449. Howe Lagrange Mortgage Co., Inc., Lagrange, IN.

450. I F Key Holdings, Inc., Orange, CA.

451. I M Navarro Corporation, Riverside, CA.

452. Icon Financial Group, Inc., Berkley, MI.

453. Imperial Mortgage Company LLC, Birmingham, AL.

454. Infinity Mortgage Service, Inc., Southfield, MI.

455. Innovative Solutions Treasure Coast, Inc., Fort Pierce, FL.

456. Instant Capital Funding Group, Inc., Orange, CA.

457. Integra Funding Group, Inc., Murrieta, CA (Titles 1 & 2).

458. Integrated Finance Services LLC, Hamden, CT.

459. Integrity Bancorp, Temecula, CA.

460. Integrity Financial Services, Oak Brook, IL (Titles 1 & 2).

461. Intercoastal Funding Corp., Fountain Valley, CA.

462. Intercontinental Mortgage Partners LP, Houston, TX.

463. Inter-Galactic Mortgage Corp., Los Angeles, CA.

464. Intermountain Financial LLC, Midvale, UT.

465. International Mortgage Lenders, Inc., Louisville, KY.

466. International Mortgage Services, Spring Lake, NJ.

467. Investors Savings Bank, Millburn, NJ.

468. Ires Co., Fountain Valley, CA.

469. Ironwood Lending, Inc., Phoenix, AZ.

470. IVC Mortgage Group, Inc., Des Plaines, IL.

471. J & L Realty Group, Inc., Elk Grove, CA.

472. J & S Development Group, Inc., St. Petersburg, FL.

473. J D Myers Financial, Inc., Lake Stevens, WA.

474. Jarvis Street Mortgage Providers, Inc., Dawsonville, GA.

475. JC Reed Mortgage, LLC, Franklin, TN (Titles 1 & 2).

476. JDB Mortgage, Inc., Burnsville, MN.

477. Jefferson Independent Mortgage, Dallas, TX.

478. Jett Financial Services, Inc., San Diego, CA.

479. Joma Shipping and Chartering Ltd., Southfield, MI.

480. Kaiser and Associates Mortgage Services, Inc., Louisville, KY.

481. Kase Mortgage Banc, Inc., Elgin, IL.

482. Kay Co. Investments, Inc., Novato, CA.

483. KC Mortgage Group, Inc., Kansas City, MO (Titles 1 & 2).

484. Kemper Mortgage, Inc., Miamisburg, OH.

485. Key Mortgage Brokers, Inc., Fort Myers, FL.

486. Killion Enterprises, Inc., Portland, OR.

487. Kinetic Mortgage Group, Inc., Doral, FL.

488. King Mortgage Corp., Wayne, NJ.

489. Kirkwood Financial Corporation, Victorville, CA.

490. Koala Equity Group, Inc., Hollywood, FL (Titles 1 & 2).

491. Kramer Mortgage Company LLC, West Des Moines, IA.

492. Kulman, Inc., Walnut Creek, CA.

493. L.S.M.C. Inc., Kansas City, MO.

494. La Junta State Bank and Trust, La Junta, CO.

495. Lakeshore Funding, Inc., Chicago, IL.

496. Lakeside Funding, Inc., Northbrook, IL.

497. LandAmerica Home Loans, Inc., Coral Gables, FL.

498. Laredo National Bank, Laredo, TX.

499. LaSalle Bank Midwest National Association, Troy, MI (Titles 1 & 2).

500. Latino Home Loans, Inc., Tampa, FL.

501. Leahy Mortgage, Inc., Lakeland, FL.

502. Leblond Federal Credit Union, Cincinnati, OH.

503. Legacy Financial Services, Inc., Batesville, IN.

504. Legacy Lenders Group LLC, Topeka, KS (Titles 1 & 2).

505. Legacy Mortgage, Inc., Springfield, NJ.

506. Lender Ltd, South Lyon, MI.

507. Lenders Rate Approval-Com Corp., Irvine, CA.

508. Lending Group, Inc., Jacksonville, FL.

509. Lending.com, Inc., Dallas, TX.

510. Liberty Financial Group, Inc., St Petersburg, FL.

511. Liberty Funding Services, Cedar Knolls, NJ.

512. Liberty Lending Incorporated, Santa Monica, CA.

513. Liberty Mortgage Group, Inc., Saint George, UT (Titles 1 & 2).

514. Liberty Mortgage LLC, Jersey City, NJ.

515. Liberty Mortgage, Inc., Jacksonville, FL.

516. Liberty One Lending, Inc., Goodyear, AZ.

517. Lifestyle Mortgage II LLC, San Antonio, TX.

518. Lighthouse Mortgage Advisers LLC, Everett, MA.

519. Lighthouse Mortgage Corporation, Fort Myers, FL.

520. Lighthouse Point Lending LLC, Ellington, CT.

521. Lime Financial Services Ltd., Lake Oswego, OR (Titles 1 & 2).

522. Lincoln Lending Services LLC, Miami, FL.

523. Lincoln Mortgage Financial Services, Inc., Clinton, TN (Titles 1 & 2).

524. Linden Residential Credit Corp., Ronkonkoma, NY.

525. Link One Mortgage Bankers LLC, Jericho, NY.

526. LMC Mortgage, Chicago, IL.

527. Loan America, Inc., Alpharetta, GA.

528. Loan Emporium, Inc., Norco, CA.

529. LoanAmerica Home Mortgage, Inc., Houston, TX (Titles 1 & 2).

530. Loanchoice, Inc., Miami, FL.

531. Loanscapes LLC, St. Louis, MO.

532. Loanstar Mortgage and Investments Corp., Tamarac, FL.

533. Louisiana Real Estate Finance LLC, Baton Rouge, LA.

534. LTL Financial Services, Inc., Frankfort, IL.

535. Luxor Investment Group, Inc., Bell Gardens, CA.

536. M and A Mortgage, Inc., Orange, CA.

537. M and R Mortgage Solutions, Chicago, IL.

538. Madison Mortgage Corporation, Smyrna, GA.

539. MAG Financial Group, Inc., Monrovia, CA.

540. Magna Mortgage and Investments, Clearwater, FL.

541. Magnolia Mortgage Company LLC, Montgomery, AL.

542. Main Street Bank, Northville, MI.

543. Maksor Management Group LLC, Wyoming, MI (Titles 1 & 2).

544. Maranatha Mortgage Corp., Algonquin, IL.

545. Mariners Capital, Inc., Newport Beach, CA.

546. Market Capitol Group, Edmond, OK.

547. Market Mortgage Corp., Oak Brook, IL.

548. Mass Mortgage, Inc., West Palm Beach, FL.

549. Mayberry Financial Corporation, Portland, ME.

550. Mayflower Home Loans, Inc., Milford, OH.

551. MBA Financial Solutions, Forest Hill, MD.

552. MCIG Capital Corporation, Ontario, CA.

553. Mendaros Family Corp., Pleasanton, CA.

554. Mercantile Mortgage Company, Westerville, OH.

555. Mercantile Mortgage Corp., Baltimore, MD.

556. Meridian Bank, Alton, IL.

557. Meridian Lending, Inc., Monroe, GA.

558. Metro East Mortgage Corp., Saint Louis, MO.

559. Metro Funding Corp., Miami, FL.

560. Metroplex City Mortgage LLC, Carrollton, TX.

561. Metropolitan Mortgage Bankers, Inc., Silver Spring, MD.

562. Metropolitan Mortgage Services, Cliffside Park, NJ.

563. Miami Valley Bank, Lakeview, OH.

564. Mid Atlantic Mortgage Group LLC, Pasadena, MD.

565. Midland Mortgage Corp., Rockford, IL.

566. Midwest Mortgage Consultants LLC, St Louis, MO (Titles 1 & 2).

567. Midwest One Mortgage Services, Inc., Evansville, IN.

568. Midwest Residential Lending LLC, Tipp City, OH.

569. Mila, Inc., Mountlake Terrace, WA.

570. Millenium Mortgage Investors Corp., Miami, FL.

571. Mills County State Bank, Glenwood, IA.

572. Minnesota Home Mortgage Corp., Saint Paul, MN.

573. Mission Mortgage, LLC, Overland Park, KS.

574. MLSG, Inc., Reno, NV (Titles 1 & 2).

575. Monarch Mortgage Co., Inc., Tucker, GA.

576. Money First Financial Services, Inc., Las Vegas, NV.

577. Money Source, Inc., Marietta, GA.

578. Moneylink Mortgage, Inc., Montebello, CA.

579. Moneywise Home Loans LLC, Lombard, IL.

580. Monument Capital LLC, Hazelwood, MO (Titles 1 & 2).

581. Morgan Funding Corp., Jersey City, NJ.

582. Morning Star Mortgage Group, Inc., Palm Bay, FL.

583. Mortgage Acceptance Corp., Austin, TX.

584. Mortgage Amenities Corp., Lincoln, RI.

585. Mortgage Approval Company LLC, Florence, KY.

586. Mortgage Broker Associates, Inc., Lynnwood, WA.

587. Mortgage Center of America, Inc., Walnut Creek, CA.

588. Mortgage Consultant and Co, Fairfield, NJ.

589. Mortgage Depot LLP, Nashville, TN.

590. Mortgage Discounters, Inc., Annandale, VA.

591. Mortgage Division, Inc., Conyers, GA.

592. Mortgage Experts, Inc., Moreno Valley, CA.

593. Mortgage Express, Inc., Roslindale, MA.

594. Mortgage Finance Corporation, Wolcott, CT.

595. Mortgage First Limited LLC, Mount Prospect, IL.

596. Mortgage Florida LC, Orlando, FL.

597. Mortgage Funding Solutions LLC, West Deptford, NJ.

598. Mortgage Industry, Inc., Angelton, TX.

599. Mortgage Institute Michigan, Southfield, MI.

600. Mortgage Mart, Inc., Joliet, IL.

601. Mortgage Network of America, Beachwood, OH.

602. Mortgage One Lending, San Diego, CA.

603. Mortgage Planners LLC, Clearwater, FL.

604. Mortgage Resource Group, Inc., Eugene, OR.

605. Mortgage Resource, Inc., Rochelle Park, NJ.

606. Mortgage Resources, Inc., Jacksonville, FL.

607. Mortgage Results Corporation, Norwood, MA.

608. Mortgage Services Bancorp, Bloomingdale, IL.

609. Mortgage Services Group LLC, Springfield, MO.

610. Mortgage Solutions Services, Inc., Brentwood, TN.

611. Mortgage Source, Inc., Las Vegas, NV.

612. Mortgage Sphere, Inc., Northbrook, IL.

613. Mortgage Town, Inc., Trussville, AL.

614. Mortgages First Real Estate Services, League City, TX.

615. MTS Financial LLC, Douglasville, GA.

616. Multi-Fund of Columbus, Inc., North Olmsted, OH.

617. Multi-Source Financial Investments, Inc., Richardson, TX.

618. Mutual Mortgage Corp., Farmington, MI.

619. Nations First Mortgage Banc, Inc., Dayton, OH.

620. Nations Wholesale Lending Group, Inc., Delray Beach, FL.

621. Nationwide Lending Corporation, Irvine, CA (Titles 1 & 2).

622. NBGI, Inc., Los Angeles, CA.

623. Net Trust Mortgage LLC, Boca Raton, FL.

624. Netbank, Coeur d'Alene, ID.

625. Nevis Funding Corporation, Woodland Hills, CA.

626. New Day Trust Mortgage, Irvine, CA.

627. New England Home Mortgage LLC, South Portland, ME.

628. New Equity Financial Corp., Louisville, KY.

629. New Heights Mortgage Co LLC, Little Rock, AR.

630. New Liberty Home Loans LLC, Duluth, GA.

631. New Liberty Mortgage, Glendale Heights, IL.

632. New Millennium Mortgage Group Corp., Chicago, IL.

633. New Millennium Mortgage, Naperville, IL.

634. New World Mortgage, Inc., Murrieta, CA.

635. New York Capital Exchange Corp., Garden City, NY.

636. Newbury Mortgage America Ltd, Takoma Park, MD.

637. Newcastle Mortgage Corporation, Saint Louis, MO.

638. Newkey Financial Corporation, Huntington Beach, CA.

639. NFC Wholesale LLC, Phoenix, AZ.

640. NHI Home Mortgage LLC, Federal Way, WA.

641. Nivek Funding Group, Inc., Glens Falls, NY.

642. Northern Mortgage Services LLC, Southborough, MA.

643. Northwoods Lending LLC, Brookfield, WI.

644. Noskey Mortgage Corporation, Brandon, FL.

645. Novella Garcia Real Estate, Inc., Rio Linda, CA.

646. NV. Mortgage, Inc., Henderson, NV.

647. OCM Mortgage, Inc., Overland Park, KS.

648. Ohio Mortgage Associates LLC, Englewood, OH.

649. Ok Corral Mortgage, Inc., Irvine, CA.

650. Olympiawest Mortgage Group LLC, Vienna, VA.

651. Omni Capital Group LLC, Centennial, CO (Titles 1 & 2).

652. Omni Capital, LLC, Henderson, NV.

653. One Source Federal Credit Union, El Paso, TX.

654. One World Mortgage Corporation, Duluth, GA.

655. Originate Home Loans, Inc., Westmont, IL.

656. Outlook Mortgage LLC, Bellaire, TX.

657. P and C Enterprises of Orlando, Inc., Orlando, FL.

658. P D Q Corp., Morris Plains, NJ.

659. Pacific Shore Funding, Laguna Hills, CA (Titles 1 & 2).

660. Pacific Western Real Estate Services, Inc., Laguna Hills, CA.

661. Pacific Wholesale Mortgage, Inc., Pasadena, CA.

662. Palace Funding Corporation, Frankfort, IL.

663. Pan American Finance Corp., Los Angeles, CA.

664. Paragon Home Lending LLC, Brookfield, WI.

665. Paramount Financial, Inc., Longwood, FL.

666. Park Place Financial LLC, Redmond, WA.

667. Pathway Financial LLC, Southfield, MI.

668. Patriot Mortgage Company, Inc., Altamonte Springs, FL.

669. Peace of Mind Mortgage, LLC, Phoenix, AZ.

670. Peach City Mortgage, Inc., Stockbridge, GA.

671. People's Choice Mortgage and Loan Corp., Deerfield Beach, FL.

672. Peoples Home Mortgage, Inc., Loxahatchee, FL.

673. Performance Mortgage, Inc., Englewood, FL.

674. Personal Home Mortgage Services, Inc., Crystal City, MO.

675. Pierce Mortage, Inc., Tacoma, WA.

676. Pines Mortgage Services, Inc., Pembroke Pines, FL.

677. Pinnacle Direct Funding Corporation, Orlando, FL.

678. Pinnacle Mortgage Corporation, Tulsa, OK.

679. Pinnacle Premier Home Mortgage LLC, Tucson, AZ.

680. Platinum Brokers, Inc., Lutz, FL.

681. Platinum Capital Group, Irvine, CA.

682. PMA Lending LLC, Woodbridge, NJ.

683. Point Financial, Inc., Brandon, FL.

684. Prajna Group, Inc., Louisville, KY.

685. Preferred Financial Group, Inc., Burlingame, CA.

686. Premier Choice Mortgage LLC, Atlanta, GA.

687. Premier Financial Credit Union, Clinton Township, MI.

688. Premier Financial Network, Inc., Huntington Beach, CA.

689. Premier Home Loans, Stockton, CA.

690. Premier Mortgage Capital, Orlando, FL.

691. Premiere Service Mortgage Corp., West Chester, OH.

692. Premium Mortgage, Inc., Blue Springs, MO.

693. Present Mortgage, Inc., Doral, FL.

694. Prestige Mortgage Group, Inc., Denver, CO.

695. Pride Mortgage LLP, Middletown, RI.

696. Prime Lending Group, Inc., Macon, GA.

697. Primeaxia Financial, Inc., San Antonio, TX.

698. Primekey Mortgage LLC, Baton Rouge, LA.

699. Principal Lending, Inc., West Paterson, NJ.

700. Priority Financial Inc., San Ramon, CA.

701. PRMS Enterprises, Inc., Murrieta, CA.

702. Pro Mortgage Group, Inc., Hialeah, FL.

703. Professional Mortgage Bankers, Lutherville, MD.

704. Professional Mortgage Partners, Inc., Downers Grove, IL.

705. Progress Bank of Missouri, Sullivan, MO.

706. Prominent Mortgage Corporation, Bellflower, CA.

707. Prospect Mortgage Group LLC, Indianapolis, IN.

708. Prosperity Home Loans, Inc., Memphis, TN.

709. Prudential Lending, Inc., Huntington Beach, CA.

710. PTF Financial Corp., Englewood, CO.

711. Public Bank, Saint Cloud, FL.

712. Public Trust Mortgage Corporation, Fort Myers, FL.

713. Pueblo Bank and Trust Company, Pueblo, CO.

714. Puget Sound Mortgage, Inc., Edmonds, WA.

715. Q Financial Direct, Inc., Doral, FL (Titles 1 & 2).

716. Qualia Services, Inc., Orange Park, FL.

717. Quality 1st Lending LLC, Farmington Hills, MI.

718. Questar Capital Funding, LLC, Tampa, FL.

719. Quick Loan Funding, Inc., Costa Mesa, CA.

720. RCW Mortgage, LLC, Louisville, KY.

721. Real Mortgage and Investments, Inc., Tampa, FL.

722. Real Mortgage Corporation, Chicago, IL.

723. Realty Mortgage Corporation, Flood, MS.

724. Refinance Company, Indianapolis, IN.

725. Regional Mortgage Programs, Inc., Cranston, RI.

726. Reliable Mortgage Bankers Corporation, New Hyde Park, NY.

727. Renovation Mortgage plus LLC, Alpharetta, GA.

728. Residential Loan Centers of America, Des Plaines, IL.

729. Residential Mortgage Capital, San Rafael, CA.

730. Residential Mortgage Experts, Crystal Lake, IL.

731. Response Mortgage Services, Inc., Bellevue, WA.

732. Reverse Equity Advisors, Inc., St. Petersburg, FL.

733. Reverse Ultra, Inc., Dania Beach, FL.

734. RG Mortgage Corporation, Homewood, IL.

735. Richland Mortgage Company LLC, Scottsdale, AZ.

736. RKS Financial Services, Inc., Henderson, NV.

737. RM Financial, Inc., Austin, TX.

738. RML Associates, Inc., Fairfield, NJ.

739. RNB, Inc., Las Vegas, NV.

740. Robert Marin Realty, Inc., Montclair, CA.

741. RTL Financial, Inc., Bellevue, WA.

742. Sage Credit Company, Inc., Irvine, CA.

743. Salem Lending & Mortgage, Houston, TX.

744. Sara Financial, Inc., La Puente, CA.

745. Saugus Federal Credit Union, Saugus, MA.

746. Savings Mortgage, Inc., Cherry Hill, NJ.

747. Sawgrass Funding LLC, Coral Springs, FL.

748. SCME Mortgage Bankers, Inc., San Diego, CA.

749. SE Metro Mortgage, Inc., Atlanta, GA.

750. Secured Lending Realty, Inc., Tarzana, CA.

751. Sellers Financial Group, Inc., Nashville, TN.

752. Seminole Lending, Inc., Kennesaw, GA.

753. Seton Capital Group, Inc., Scottsdale, AZ.

754. Shamrock Bancorp, Inc., Downers Grove, IL.

755. Shoshone First Bank, Cody, WY.

756. Signature Funding, Inc., San Diego, CA.

757. Silver State Bank, Henderson, NV.

758. Silverstone Mortgage, Byram, MS.

759. Skorp, Inc., Las Vegas, NV.

760. Sloan Mortgage Group, Inc., Maitland, FL.

761. Smart Properties, Inc., Naples, FL.

762. Solutions Lending LLC, Fishers, IN.

763. Sonora Mortgage, Inc., Phoenix, AZ.

764. Sonrise Mortgage LLC, Sparks, MD.

765. Sound Mortgage Solutions, Inc., Jacksonville, FL.

766. South Coast Reverse Mortgage, Inc., Laguna Hills, CA.

767. South Holland Mortgage Group, South Holland, IL.

768. South Lake Mortgage Capital, Inc., Laguna Hills, CA.

769. South Trust Funding, Inc., Valrico, FL.

770. Southern Home Mortgage, Inc., Grapevine, TX.

771. Southern Horizon Financial Group LLC, Acworth, GA.

772. Southern Star Mortgage Corp., East Meadow, NY. (Titles 1 & 2).

773. Southern Unity Mortgage, Birmingham, AL.

774. Southstate Mortgage Corp., Orlando, FL.

775. Southwest Mortgage Corp., Overland Park, KS.

776. Spectrum Financial Group, Scottsdale, AZ.

777. Spectrum Funding Corporation, Salt Lake City, UT.

778. Spectrum Hale Partners LLC, Scottsdale, AZ.

779. Standard Home Mortgage, Inc., Grosse Pointe Farms, MI.

780. State Lending Corporation, Miami, FL.

781. Stonebriar Mortgage Corporation, Dallas, TX.

782. Stonecreek Funding Corp., Denver, CO.

783. Strategic Mortgage Corporation, Walnut, CA.

784. Stratford Funding, Inc., Southfield, MI.

785. Streamline Holding LLC, Naples, FL.

786. Summit Lending Solutions, Inc., Escondido, CA.

787. Summit Mortgage Company of the Bluegrass, Lexington, KY.

788. Summit Mortgage LLC, Wakefield, MA.

789. Summit Mortgage of America Corp., Brighton, MI.

790. Sun Beam Mortgage Corp., Clearwater, FL.

791. SunCoast Residential Lending LLC, Fort Myers, FL.

792. Sunpoint Corporation, Las Vegas, NV.

793. Sunrise Financial Services, Inc., Pipersville, PA.

794. Sunset Lending Group, Inc., Miami, FL.

795. Sunshine Mortgage Corp., Smyrna, GA.

796. Superior Estates Corp., Las Vegas, NV.

797. Superior Funding Group Corporation, Lake Worth, FL.

798. Surecredit USA Home Loans, Inc., Miami, FL.

799. Swash Bucklers Cove LLC, West Linn, OR.

800. Synergy Mortgage Solutions, LLC, Tucker, GA.

801. Syracuse Cooperative Federal C U, Syracuse, NY.

802. Tayllon Mortgage Corporation, Las Vegas, NV.

803. TCF National Bank, Livonia, MI.

804. TCS Mortgage, Inc., San Diego, CA.

805. Team One Lending, Inc., Wellington, FL.

806. Texas Mortgage Services, Inc., Colleyville, TX.

807. The Community Bank, Loganville, GA.

808. The Lending Exchange, Inc., Homewood, IL.

809. The Loan Experts, Saratoga, CA.

810. The Loan Source, Inc., Atlanta, GA.

811. The Money Tree Financial Corp., Irwin, PA.

812. The Mortgage Center of Volusia County In, Ormond Beach, FL.

813. The Mortgage Exchange, Chicago, IL.

814. The Mortgage Funding Group, Inc., Temple Hills, MD.

815. The Mortgage Locator LLC, Stone Mountain, GA.

816. The Mortgage Store, Inc., Wentzville, MO

817. The Rock Mortgage, Inc., Dallas, TX.

818. The Signature Bank, Springfield, MO.

819. The Watermark Group, Inc., Portland, OR.

820. Theo-Vision LLC, Houston, TX.

821. Thornapple Mortgage Co LLC, Caledonia, MI.

822. Thumb Butte Mortgage, Inc., Prescott, AZ.

823. Timberland Mortgage Services, Inc., Apple Valley, MN.

824. TNN Financial, Inc., Fairlawn, OH.

825. Toos, Inc., Newport Beach, CA.

826. Top Choice Mortgage Co, North Miami, FL.

827. Top Mortgage Bankers Corp., Bellingham, WA.

828. Total Care Mortgage, Inc., Jacksonville, FL.

829. Total Home Source, Inc., Brandon, FL.

830. Touchstone Mortgage Company, Portland, OR.

831. Tower Mortgage Capital, Inc., Rancho Cucamonga, CA (Titles 1 & 2).

832. TPI Mortgage, Inc., Herndon, VA.

833. Tricounty Mortgage, Inc., Riverside, CA.

834. Triple Crown, Inc., Paris, KY.

835. Triton Financial Group LLC, Beachwood, OH.

836. Trivantage Bancorp LLC, St. Petersburg, FL.

837. Trust Capital Mortgage, Inc., Boca Raton, FL (Titles 1 & 2).

838. Trust One Mortgage Corporation, Oak Brook, IL.

839. Tuscany Financial, Inc., Aspinwall, PA.

840. TWG Investments, Inc., Rancho Cucamonga, CA.

841. U S Mortgage Holdings AZ, LLC, Phoenix, AZ (Titles 1 & 2).

842. Unimac Financial Services, Burlingame, CA.

843. Union Centre Mortgage LLC, Lebanon, OH.

844. Union Equity Mortgage LLC, Benton, AR.

845. Union Home Mortgage LLC, Shawnee, KS.

846. United Americas Bank, Atlanta, GA.

847. United California Systems, Los Angeles, CA.

848. United Capital Mortgage of Ohio, Inc., Cincinnati, OH.

849. United Consumer Mortgage, Inc., Chicago, IL.

850. United Equity LLC, Baltimore, MD.

851. United Mortgage and Associates Ltd, Ocala, FL.

852. United Mortgage Corporation, Cape Coral, FL.

853. United Prairie Bank-New Ulm, New Ulm, MN.

854. United Prestige Mortgage LLC, Hoboken, NJ.

855. Universal Home Lending, Inc., Eastpointe, MI.

856. Universal Home Loan Corp. of America LLC, Lewisville, TX.

857. Universal Mortgage Consultants, Inc., Park Ridge, IL.

858. Universal Savings Bank, Milwaukee, WI.

859. Unlimited Mortgage, Inc., Goshen, IN.

860. US Equity Mortgage LLC, Louisville, KY.

861. US Mortgage & Investment Services, Inc., Rockville, MD.

862. US Mortgage and Investments, Inc., North Little Rock, AR.

863. USA Home Finance.Com, Inc., North Miami, FL.

864. USA Home Mortgage Corp., Elmhurst, IL.

865. USA Mortgage Gold of FL, Inc., Naples, FL.

866. USMoney Source, Inc., Atlanta, GA (Titles 1 & 2).

867. Value One Mortgage Corp., Randolph, MA.

868. Vega Financial, Las Vegas, NV.

869. Ventura Mortgage, LLC, Fort Myers, FL.

870. Verizon Financial LLC, Canton, MI.

871. Victory Mortgage LLC, Kansas City, MO.

872. Viewpoint Lending, Inc., Marysville, WA.

873. VM Lending LLC, Alpharetta, GA.

874. Washington Capital Advisors, Inc., Los Alamitos, CA.

875. Washington Mutual Bank FA, Bethel Park, PA.

876. Washington Mutual Bank FSB, Irvine, CA.

877. Watermark Lending LLC, Fort Myers, FL.

878. We Do Home Loans, Inc., Tampa, FL.

879. Wendover Financial Services Corp., Greensboro, NC.

880. Western Bank Cheyenne, Cheyenne, WY.

881. Western States Mortgage Corp., Bellevue, WA.

882. Western States Mortgage Group, Inc., Colorado Springs, CO.

883. Westlantic Financial Group, Inc., Ft. Lauderdale, FL.

884. Westside Mortgage Corporation, Grand Rapids, MI.

885. White Sands Mortgage, Inc., McComb, MS.

886. Wholesale America Mortgage, Inc., Pleasanton, CA (Titles 1 & 2).

887. Wholesale Mortgage Lending LLC, Centennial, CO.

888. Winged Foot Financial Group LLC, Red Bank, NJ.

889. Wisconsin Home Lending, Inc., Waukesha, WI.

890. WK Financial Services, Inc., Victorville, CA.

891. WLT Capital Corp., Tucson, AZ.

892. Woodbine Mortgage Corp., Longview, TX.

893. Workingmans Mortgage, Inc., Raleigh, NC.

894. World Group Mortgage LLC, Cornelius, NC (Titles 1 & 2).

895. World Mortgage Corporation of Miami, Doral, FL.

896. Worldwide Financial Resources, Inc., Morganville, NJ.

897. Worth National Bank, Inc., Benbrook, TX.

898. Wow Financial LLC, Conshohocken, PA.

899. Wyndham Financial Services, Inc., Plano, TX.

900. Yavel Lending, Inc., West Palm Beach, FL.

901. You're Finance Source, A Florida Limited Partnership, Ocala, FL.

902. Your Best Rate Financial LLC, Atlanta, GA.

903. Your Home Loan Solution Team LLC, Phoenix, AZ (Titles 1 & 2).

904. Zino Financial, Inc., Concord, CA.

905. Zion Mortgage Solution Incorporated, Marion, IN.

III. Lenders That Failed to Timely Meet Requirements for Annual Recertification of HUD/FHA Approval, But Have Cured

Action: The Board voted to give the lenders below an opportunity to settle the matter. The settlement required each lender to pay a $3,500 civil money penalty without admitting fault or liability.

Cause: The Board took this action because the lenders failed to timely comply with the Department's annual recertification requirements, but are now in compliance.

1. 1st Alliance Banc Corp, Chicago, IL, 09-9044-MR.

2. Aarow Mortgage, Laurel, MD, 09-9053-MR.

3. Acme Amalgamated Enterprises d/b/a Prime Mortgage, Austin, TX, 10-1643-MRT.

4. Albina Community Bank, Portland, OR, 09-9231-MR.

5. All American Home Mortgages LLC, Henderson, NV, 09-9764-MR.

6. All Peoples Financial LLC, Edison, NJ, 10-1647-MRT.

7. Allied Credit Union, Houston, TX, 09-9178-MR.

8. Amber Financial Group, San Diego, CA, 09-9177-MR.

9. American Momentum Bank, Tampa, FL, 09-9122-MR.

10. American Mortgage Services, Melrose, MA, 09-9021-MR.

11. Amerilending, Miami, FL, 09-9005-MR.

12. Amston Mortgage Company, Inc., Moodus, CT, 09-9288-MR.

13. Amwest Capital Mortgage Inc., Escondido, CA, 08-8060-MR.

14. Atlantis Mortgage Co., Inc., Eatontown, NJ, 10-1654-MRT.

15. Avanta Federal Credit Union, Billings, MT, 10-1655-MRT.

16. Bank of Tucson, Tucson, AZ, 09-9295-MR.

17. Baytree Lending Company, Milwaukee, WI, 10-1656-MRT.

18. Beacon Financial Group Inc., Melbourne, FL, 09-9282-MR.

19. Benchmark Mortgage LLC, Cordova, TN, 10-1658-MRT.

20. Best Mortgage Services, LLC, Detroit, MI, 09-9521-MR.

21. Blue Eagle Corporation, Elgin, IL, 09-9201-MR.

22. Bogman, Inc., Silver Spring, MD, 09-9095-MR.

23. Bridgeview Mortgage Corp., Franklin Square, NY, 10-1659-MRT.

24. C&A Financial Enterprises, Inc., Macon, GA, 09-9347-MR.

25. Capital Access Mortgage, Denver, CO, 09-9351-MR.

26. Carrollton Mortgage Co., Modesto, CA, 09-9523-MR.

27. Casa Mortgage Corp., Fort Lauderdale, FL, 10-1660-MRT.

28. Cascade Northern Mortgage Inc., Vancouver, WA, 09-9439-MR.

29. Centerline Capital Group, New York, NY, 09-9160-MR.

30. Central Kentucky Federal Savings Bank, Danville, KY, 09-9299-MR.

31. CFCU Credit Union, Ithaca, NY, 09-9130-MR.

32. Chicagoland Mortgage Exchange, Chicago, IL, 09-9139-MR.

33. Citizen's National Bank, Meridian, MS, 09-9243-MR.

34. Clayton Peters & Assoc., Baltimore, MD, 09-9013-MR.

35. CMS Mortgage Solutions Inc., Chesapeake, VA, 09-9526-MR.

36. Colonial Mortgage Service Company, Montgomeryville, PA, 09-9208-MR.

37. Connecticut Housing Inv Fund Inc., Hartford, CT, 08-8046-MR.

38. Covenant Mortgage LLC, Baton Rouge, LA, 10-1665-MRT.

39. Covenant Mortgage LLC, Baton Rouge, LA, 10-1665-RT.

40. Crestwood Mortgage Company, Bensalem, PA, 09-9371-MR.

41. DFB Mortgage, Inc., Douglasville, GA, 10-1667-MRT.

42. DLF Enterprises Inc., West Bend, WI, 09-9529-MR.

43. Drew Mortgage Associates, Inc., Shrewsbury, MA, 09-9247-MR.

44. E and S Financial Group, Inc., Farmington Hills, MI, 09-9312-MR.

45. Exigent Mortgage Corp, Palm Harbor, FL, 09-9134-MR.

46. Farmers State Bank, Watkins, MN, 09-9081-MR.

47. Fidelity Mortgage Group, West Memphis, AR, 09-9099-MR.

48. Financial Security Bank (fka State Bank), Albertville, MN, 09-9116-MR.

49. First Boston Mortgage Corp., Woburn, MA, 10-1729-MRT.

50. First Choice Mortgage of South Florida, Inc., Miami, FL, 10-1730-MRT.

51. First Financial Bank, NA, Stephenville, TX, 09-9111-MR.

52. First Home Equity Inc., Mauldin, SC, 09-9533-MR.

53. First Sentinel Bank, Richlands, VA, 09-9106-MR.

54. First Star Funding Corp., Olympia Fields, IL, 10-1733-MRT.

55. Flagship Financial Group, LLC, Lehi, UT, 10-1734-MRT.

56. Fox Financial LLC, Mokena, IL, 10-1735-MRT.

57. Frontier Bank, Rock Rapids, IA, 09-9181-MR.

58. Fullerton National Bank, Fullerton, NE, 09-9167-MR.

59. Gateway Bank Mortgage Inc., Raleigh, NC, 09-9019-MR.

60. Great Northern Lending Corp., Cook, MN, 10-1737-MRT.

61. Greater Nevada, LLC, Carson City, NV, 09-9129-MR.

62. Guidance Mortgage Group LLC, Louisville, KY, 10-1738-MRT.

63. Hermes Garcia Mortgage, LLC, Weston, FL, 10-1742-MRT.

64. Home Mortgage Bankers, Carolina, PR, 09-9206-MR.

65. Home Owners Mortgage Equity Corp., Billings, MT, 10-1743-MRT.

66. Homeownership Solutions, LLC, West Hartford, CT, 09-9150-MR.

67. Ideal Federal Savings Bank, Baltimore, MD, 10-1724-MRT.

68. Independent Mortgage LLC, Newton Upper Falls, MA, 10-1746-MRT.

69. Inventive Mortgage Corp., Westchester, IL, 09-9210-MR.

70. Kentucky Fidelity Mortgage, Florence, KY, 10-1747-MRT.

71. Keystone Community Bank, Kalamazoo, MI, 09-9186-MR.

72. Keystone Mortgage Group LLC, Knoxville, TN, 10-1748-MRT.

73. Lapeer Co. Bank & Trust, Lapeer, MI, 09-9066-MR.

74. Legacy Lending Group, Meridian, ID, 10-1750-MRT.

75. Leiman Mortgage Network, Lakewood, NJ, 09-9079-MR.

76. Live Well Financial, Inc., Richmond, VA, 09-9352-MR.

77. Loan Chalet Corporation, Orange, CA, 10-1751-MRT.

78. Lorain National Bank, Lorain, OH, 10-1753-MRT.

79. LV Continental Funding Corporation, Hayward, CA, 09-9427-MR.

80. Mainestream Finance, Bangor, ME, 08-8064-MR.

81. Marine Funding, Inc., South Richmond Hill, NY, 09-9324-MR.

82. Massachusetts Housing Investment Corp, Boston, MA, 09-9073-MR.

83. Member Options LLC, Charlottesville, VA, 10-1754-MRT.

84. Mid Oregon Lending, Inc., Bend, OR, 10-1756-MRT.

85. Midwest Custom Mortgage, Inc., Elgin, IL, 09-9270-MR.

86. Money Connection, Inc., Fairlawn, OH, 09-9273-MR.

87. Money Mortgage Corp., Newark, NJ, 10-1758-MRT.

88. Mortgage Approval Center LLC, Chapel Hill, NC, 10-1759-MRT.

89. Mortgage Direct, Inc., Elmhurst, IL, 10-1761-MRT.

90. Mortgage Options of America, Winchester, MA, 09-9102-MR.

91. Mortgage Security, Inc., East Falmouth, MA, 09-9289-MR.

92. Mortgage Services of Louisiana, Inc., Harahan, LA, 09-9274-MR.

93. Mountainside Mortgage LLC, Salt Lake City, UT, 09-9188-MR.

94. MSI Mortgage Services III, LLC, Bloomington, IL, 09-9330-MR.

95. Mullica Financial Services LLC, Blackwood, NJ, 10-1762-MRT.

96. NetCentral Mortgage, LLC, Milwaukee, WI, 09-9254-MR.

97. North Atlantic Mortgage Corp, Burtonsville, MD, 09-9156-MR.

98. Northern Corridor Community Federal Credit Union, Rouses Point, NY, 09-9223-MR.

99. Odin State Bank, Odin, MN, 09-9300-MR.

100. Old J Corporation, Riverside, CA, 08-8055-MR.

101. Oriental Bank and Trust, San Juan, PR, 09-9538-MR.

102. Pacific Community Credit Union, Fullerton, CA, 09-9539-MR.

103. Palace Home Mortgage Corporation, Olympia Fields, IL, 09-9301-MR.

104. Peoples Federal Savings Bank, Auburn, IN, 09-9144-MR.

105. Performance Residential Capital Corp., Farmingdale, NY, 09-9540-MR.

106. Pike Creek Mortgage Services, Inc., Newark, DE, 10-1766-MRT.

107. Pinnacle Bank Wyoming, Cody, WY, 09-9214-MR.

108. Pinnacle Home Mortgage Company, Schaumburg, IL, 10-1767-MRT.

109. Pinnacle Loan Corporation, Atlanta, GA, 10-1768-MRT.

110. Premium Mortgage Corp, Rochester, NY, 09-9315-MR.

111. Proficio Mortgage Ventures LLC, Orlando, FL, 09-9105-MR.

112. R H Lending, Inc., Burleson, TX, 10-1772-MRT.

113. Rapid City Telco Federal Credit Union, Rapid City, SD, 09-9216-MR.

114. Reverse Mortgages of Idaho Incorporated, Boise, ID, 10-1775-MRT.

115. RF Mortgage, San Juan, PR, 09-9108-MR.

116. RMK Financial Corporation, Rancho Cucamonga, CA, 09-9209-MR.

117. Rockland Savings and Loan Association, Rockland, ME, 09-9245-MR.

118. RT Mortgage, Inc., Franklin, OH, 10-1776-MRT.

119. Rusty Rose, Inc., Miami, FL, 10-1777-MRT.

120. Ryland Mortgage, Calabasas, CA, 09-9033-MR.

121. Shell Lake State Bank, Shell Lake, WI, 09-9257-MR.

122. Shore Community Bank, Toms River, NJ, 09-9174-MR.

123. Skyline Mortgage, LLC, Ponte Verde Beach, FL, 09-9195-MR.

124. Society Financial Corp, Farmington, CT, 09-9327-MR.

125. South DeKalb Church Federal Credit Union, Decatur, GA, 09-9265-MR.

126. Southern Missouri Bank of Marshfield, Marshfield, MO, 09-9286-MR.

127. Southern Trust Mortgage LLC, Virginia Beach, VA, 10-1778-MRT.

128. Sunrise Vista Mortgage Corp., Citrus Heights, CA, 09-9541-MR.

129. TBI Mortgage Company, Horsham, PA, 09-9542-MR.

130. Texoma Community Credit Union, Wichita Falls, TX, 09-9032-MR.

131. Total Mortgage Services LLC, Milford, CT, 09-9345-MR.

132. Trinity Mortgage Solutions LLC, Providence, RI, 10-1783-MRT.

133. Troy Mortgage Corporation, Inc., Greenwood Village, CO, 09-9275-MR.

134. Union Bank Benton, Benton, AR, 09-9222-MR.

135. United Mortgage Corporation, Inc., Saint Peters, MO, 10-1787-MRT.

136. Unitrust Mortgage, Inc., San Diego, CA, 10-1788-MRT.

137. Urban Trust Bank, Lake Mary, FL, 09-9251-MR.

138. US Mortgage Network, Sewickley, PA, 09-9335-MR.

139. Victoria Mortgage Bankers, Inc., Chicago, IL, 10-1789-MRT.

140. Village Oaks Financial Group, Bullhead City, AZ, 08-8057-MR.

141. Wachovia Equity Servicing LLC (Title I), Charlotte, NC, 09-9255-MR.

142. Wachovia Equity Servicing LLC (Title II), Charlotte, NC, 09-9255-MR.

143. Weber Financial Services, Inc., Johnson City, TN, 10-1791-MRT.

144. Westerly Community Credit Union, Westerly, RI, 09-9119-MR.

145. Westfield Bank FSB, Medina, OH, 09-9207-MR.

146. Wholesale Capital Corp., Moreno Valley, CA, 08-8038-MR.

147. Yankee Mortgage Company LLC, Glastonbury, CT, 09-9272-MR.

Dated: July 19, 2010.
David H. Stevens,
Assistant Secretary for Housing—Federal Housing Commissioner.

[FR Doc. 2010-18156 Filed 7-23-10; 8:45 am]

BILLING CODE 4210-67-P